DEPARTMENT OF TRANSPORTATION

National Highway Traffic Safety Administration

[Docket No. NHTSA-2019-0082]

Agency Information Collection Activities; Notice and Request for Comment; Drivers' Use of Camera-Based Rear Visibility Systems Versus Traditional Mirrors

AGENCY: National Highway Traffic Safety Administration (NHTSA), Department of Transportation (DOT).

ACTION: Notice and request for comments on a proposed collection of information.

SUMMARY: The National Highway Traffic Safety Administration (NHTSA) announces our intention to request the Office of Management and Budget's (OMB) approval of a proposed collection of certain information by the Agency. Before a Federal agency can collect certain information from the public, it must receive approval from OMB. Procedures established under the Paperwork Reduction Act of 1995 (the PRA) require Federal agencies to publish a notice in the Federal Register concerning each proposed collection of information and to allow 60 days for public comment in response to the notice. The proposed collection of information supports research addressing safety-related aspects of drivers' use of camera-based rear visibility systems intended to serve as a replacement for traditional outside rearview mirrors.

DATES: Comments must be received on or before October 28, 2019.

ADDRESSES: You may submit comments identified by the docket number in the heading of this document or by any of the following methods:

• Federal eRulemaking Portal: Go to http://www.regulations.gov. Follow the instructions for submitting comments on the electronic docket site by clicking on “Help” or “FAQ”.

• Mail: Docket Management Facility. M-30, U.S Department of Transportation. 1200 New Jersey Avenue SE, West Building, Ground Floor, Room W12-140, Washington, DC 20590.

• Hand Delivery: U.S Department of Transportation, 1200 New Jersey Avenue SE, West Building, Ground Floor, Room W12-140, Washington, DC 20590 between 9 a.m. and 5 p.m. Eastern Time, Monday through Friday, except Federal Holidays.

• Fax: 202-493-2251.

Instructions: Each submission must include the Agency name and the Docket number for this Notice. Note that all comments received will be posted without change to www.regulations.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html .

Docket: For access to the docket to read comments received, go to http://www.regulations.gov, or the street address listed above. Follow the online instructions for accessing the dockets.

FOR FURTHER INFORMATION CONTACT: Elizabeth Mazzae, Applied Crash Avoidance Research Division, Vehicle Research and Test Center, NHTSA, 10820 State Route 347—Bldg. 60, East Liberty, Ohio 43319; Telephone (937) 666-4511; Facsimile: (937) 666-3590; email address: elizabeth.mazzae@dot.gov.

SUPPLEMENTARY INFORMATION: Under the Paperwork Reduction Act of 1995 (44 U.S.C. 3501-3520), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collection of information:

Title: Drivers' Use of Camera-Based Rear Visibility Systems Versus Traditional Mirrors.

Type of Request: New collection.

Type of Review Requested: Regular.

OMB Clearance Number: New Collection.

Form Number: None.

Requested Expiration Date of Approval: Three years from date of approval.

Summary of the Collection of Information:

NHTSA proposes to perform research involving the collection of information from the public as part of a multi-year effort to learn about drivers' use of camera-based systems designed to replace traditional outside rearview mirrors. Initial research will focus on light vehicles and be followed by research examining camera-based visibility systems on heavy trucks.

For the light vehicle research, all camera-based visibility systems to be tested will be foreign production or prototype systems fitted onto U.S. or European specification vehicles. At least two test vehicles will be equipped with both camera and mirror technologies, while the other test vehicles will be equipped with camera-based visibility systems and no outside mirrors. Systems to be tested with heavy trucks have yet to be finalized.

Research participants will be members of the public who are licensed car drivers and/or truck drivers. Participants will drive a test vehicle equipped with a camera-based system in place of outside rearview mirrors, an original equipment outside rearview mirror system, or a combination of both. The research will involve track-based and on-road, semi-naturalistic driving in which participants will drive vehicles in multi-lane traffic scenarios while using the outside rearview mirrors or alternative system during lane changes and other typical driving situations. A portion of testing will take place in dark (i.e., nighttime or early morning) driving conditions to permit examination of system performance and drivers' use of systems in those conditions. Vehicles will be fitted with instrumentation for recording driver eye glance behavior, as well as vehicle speed, position, steering angle, and turn signal status. Separate, but similar data collections will be conducted for passenger cars and heavy trucks. Questions will be asked during the course of the research to assess individuals' suitability for study participation, to obtain feedback regarding participants' use of the camera-based rear visibility systems, and to gauge individuals' level of comfort with and confidence in the technologies' performance and safety.

Description of the Need for the Information and Proposed Use of the Information:

The National Highway Traffic Safety Administration's (NHTSA) mission is to save lives, prevent injuries, and reduce healthcare and other economic costs associated with motor vehicle crashes. As new vehicle technologies are developed, it is prudent to ensure that they do not create any unintended decrease in safety. The safety of passive visibility-related technologies depends on both the performance of the systems and on drivers' ability to effectively and comfortably use the systems. This work seeks to examine and compare drivers' eye glance behavior and aspects of driving behavior and lane change maneuver execution for traditional mirrors and camera-based systems intended to replace outside rearview mirrors.

The collection of information will consist of: (1) Question Set 1, Driving Research Study Interest Response Form, (2) Question Set 2, Screening Questions, (3) passive observation of driving behavior, and (4) Question Set 3, Post-Drive Questionnaire.

The information to be collected will be used for the following purposes:

• Question Set 1, Driving Research Study Interest Response Form will be used to determine individuals' willingness to participate in the study and whether an individual qualifies for participation in this study based on certain information. For example, participants must:

○ Be at least 25 years of age

○ For drivers of passenger cars: Hold a valid U.S. or Canadian driver's license

○ For drivers of heavy trucks: Hold a valid U.S. commercial driver's license

○ Drive at least 11,000 miles annually

○ Provide their contact information for the purposes of coordinating participation.

• Question Set 2, Screening Questions will be primarily used to ensure that participants meet certain minimum health qualifications, are free of recent criminal convictions, and have reasonable availability to participate in the study. The objective of the health screening questions is to identify candidate participants whose physical and health conditions may be deemed “average” and are compatible with being able to drive continuously for up to 3 hours a vehicle equipped with only original equipment components.

• Question Set 3, Post-Drive Questionnaire will be used to get information about the participants' experiences during the experimental drive, including their degree of comfort in using the camera-based system. There will be different versions of the questionnaire for light vehicle and truck drivers, but both will be designed to require not more than 15 minutes to complete all questions. Participants will complete the Question Set 3 post-drive questionnaire one time for mirrors and one time for the camera-based rear visibility system.

Affected Public (Respondents): Research participants will be licensed drivers aged 25 years or greater who drive at least 11,000 miles annually, are in good health, and do not require assistive devices to safely operate a vehicle and drive continuously for a period of 3 hours.

Estimated Number of Respondents: Information will be collected in an incremental fashion to permit the determination of which individuals have the necessary characteristics for study participation. All interested candidates will complete Question Set 1, Driving Research Study Interest Response Form. A subset of individuals meeting the criteria for Question Set 1 will be asked to complete Question Set 2, Screening Questions. From the individuals found to meet the criteria for both Questions Sets 1 and 2, a subset will be chosen with the goal of achieving a sample providing a balance of age and sex to be scheduled for study participation. A summary of the estimated numbers of individuals that will complete the noted question sets is provided in the following table.

Estimated Number of Respondents
Questions | Total N
Question Set 1, Driving Research Study Interest Response Form | 750
Question Set 2, Screening Questions | 300
Question Set 3, Post-Drive Questionnaire | 160

Estimated Time per Response: Completion of Question Set 1, Driving Research Study Interest Response Form is estimated to take approximately 5 minutes and completion is estimated to take approximately 7 minutes for Question Set 2, Screening Questions. Completion of Question Set 3, Post-Drive Questionnaire is estimated to take 15 minutes per participant and each participant will compete the questionnaire two times. The estimated annual time and cost burdens are summarized in the table below. The number of respondents and time to complete each question set are estimated as shown in the table. The time per question set is calculated by multiplying the number of respondents by the time per respondent and then converting from minutes to hours. The hour value for each question set is multiplied by the latest average hour earning estimate from the Bureau of Labor Statistics to obtain an estimated burden cost per question set.¹

¹ Bureau of Labor Statistics Feb. 2019 Average Hourly Earnings data for “Total Private,” $27.66 (Accessed 3/8/2019 at https://www.bls.gov/news.release/empsit.t19.htm.) The Bureau of Labor Statistics estimates that for private industry workers, wages represent 70.1% of total compensation. Employer Costs for Employee Compensation-March 2019, (Assessed 7/31/2019 at https://www.bls.gov/news.release/pdf/ecec.pdf).

Estimated Time per Response and Total Time
Question Set | Topic | Participants | Time per response (minutes) | Total time (minutes) | Total time (hours) | Total cost
1 | Driving Research Study Interest Response Form | 750 | 5 | 3,750 | 62.5 | $2,466.12
2 | Screening Questions | 300 | 7 | 2,100 | 35.0 | 1,381.03
3a | Post-Drive Questionnaire, Passenger Vehicle | 80 | 30 | 2,400 | 40.0 | 1,578.32
3b | Post-Drive Questionnaire, Heavy Truck | 80 | 30 | 2,400 | 40.0 | 1,578.32
Total Estimated Burden |  |  | 177.5 | 7,003.78

Total Estimated Annual Burden: 177.5 hours.

Frequency of Collection: The data collection described will be performed once to obtain the target number of valid test participants.

Authority: The Paperwork Reduction Act of 1995; 44 U.S.C. Chapter 35, as amended; and 49 CFR 1.95.

Issued in Washington, DC.
Tim J. Johnson,
Acting Associate Administrator for Vehicle Safety Research.

[FR Doc. 2019-18487 Filed 8-27-19; 8:45 am]

BILLING CODE 4910-59-P